DEPARTMENT OF HEALTH AND HUMAN SERVICES

Office of the Secretary

Agency Information Collection Activities: Submission for OMB Review; Comment Request

The Department of Health and Human Services, Office of the Secretary publishes a list of information collections it has submitted to the Office of Management and Budget (OMB) for clearance in compliance with the Paperwork Reduction Act of 1995 (44 U.S.C. chapter 35) and 5 CFR 1320.5. The following are those information collections recently submitted to OMB.

1. Responsibilities of Awardees and Applicant Institutions for Reporting Possible Misconduct in Science (42 CFR part 50 subpart A)—0937-0198—Revision—As required to section 493 of the Public Health Service Act, the Secretary by regulation shall require that applicant and awardee institutions receiving PHS funds must investigate and report instances of alleged or apparent misconduct in science. Respondents: State or local governments, businesses or other for-profit, non-profit institutions—Reporting Burden Information—Number of Respondents: 3,330; Number of Annual Responses: 3,430—Average Burden per Response: .273 hours; Total Reporting Burden: 938 hours—Disclosure Burden—Number of Respondents: 3,330; Number of Annual Responses: 3,390; Average Burden per Response: .5 hours; Total Disclosure Burden: 1,695 hours—Recordkeeping Burden Information—Number of Respondents: 40; Number of Annual Responses: 140; Average Burden per Response: 7.77 hours; Total Recordkeeping Burden: 1,088 hours—Total Burden—3,721 hours.

OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street, NW., Washington, DC 20503.

Comments may also be sent to Cynthia Agens Bauer, OS Reports Clearance Officer, Room 503H, Humphrey Building, 200 Independence Avenue SW., Washington, DC 20201. Written comments should be received within 30 days of this notice.

Dated: November 7, 2002.
Kerry Weems,
Deputy Assistant Secretary, Budget.

[FR Doc. 02-29395 Filed 11-19-02; 8:45 am]

BILLING CODE 4150-31-M